DEPARTMENT OF COMMERCE

International Trade Administration

A-570-863

Honey from the People's Republic of China: Initiation of New Shipper Antidumping Duty Reviews

AGENCY: Import Administration, International Trade Administration, Department of Commerce.

EFFECTIVE DATE: February 5, 2007.

SUMMARY: On December 28, 2006, the Department of Commerce (“the Department”) received a request from QHD Sanhai Honey Co., Ltd. (“QHD Sanhai”) to conduct a new shipper review of the antidumping duty order on honey from the People's Republic of China (“PRC”). We have determined that this request meets the statutory and regulatory requirements for the initiation of a new shipper review.

FOR FURTHER INFORMATION CONTACT: Scot Fullerton or Christopher Riker, AD/CVD Operations, Office 9, Import Administration, International Trade Administration, U.S. Department of Commerce, 14th Street and Constitution Avenue, NW, Washington, DC 20230; telephone: (202) 482-1386 or (202) 482-3441, respectively.

SUPPLEMENTARY INFORMATION:

Background

The Department received a timely request from QHD Sanhai in accordance with section 751(a)(2)(B) of the Tariff Act of 1930, as amended (“the Act”) and 19 CFR 351.214 (c), for a new shipper review of the antidumping duty order on honey from the PRC, which has a December anniversary month. See Notice of Amended Final Determination of Sales at Less Than Fair Value and Antidumping Duty Order; Honey from the People's Republic of China, 66 FR 63670 (December 10, 2001). QHD Sanhai identified itself as a producer and exporter of honey. As required by 19 CFR 351.214(b)(2)(i) and (iii)(A), QHD Sanhai certified that it did not export honey to the United States during the period of investigation (“POI”), and that it has never been affiliated with any exporter or producer which exported honey to the United States during the POI. Furthermore, the company also certified that its export activities are not controlled by the government of the PRC, satisfying the requirements of 19 CFR 351.214(b)(2)(iii)(B).

Pursuant to 19 CFR 351.214(b)(2)(iv), QHD Sanhai submitted documentation establishing the date on which the subject merchandise was first entered for consumption in the United States, the volume of that first shipment and any subsequent shipments, and the date of the first sale to an unaffiliated customer in the United States.

The Department conducted Customs database queries and analyzed Customs entry packages to confirm that the shipments made by QHD Sanhai had officially entered the United States via assignment of an entry date in the Customs database by U.S. Customs and Border Protection (“CBP”). In addition, the Department confirmed the existence of QHD Sanhai and its U.S. customer.

Initiation of Review

In accordance with section 751(a)(2)(B) of the Act and 19 CFR 351.214(d)(1), and based on information on the record, we are initiating a new shipper review for QHD Sanhai. See Memorandum to the File through James C. Doyle, Director, AD/CVD Operations, Office 9, Import Administration, from Scot Fullerton, Senior Case Analyst, AD/CVD Operations, Office 9, Import Administration, regarding Initiation of Antidumping Duty New Shipper Review: Honey from the People's Republic of China (January 29, 2007). We intend to issue the preliminary results of this review not later than 180 days after the date on which this review was initiated, and the final results of this review within 90 days after the date on which the preliminary results were issued.

Pursuant to 19 CFR 351.214(g)(1)(i)(A), the period of review (“POR”) for a new shipper review, initiated in the month immediately following the anniversary month, will be the 12-month period immediately preceding the anniversary month. Therefore, the POR for the new shipper review of QHD Sanhai is December 1, 2005, through November 30, 2006.

In cases involving non-market economies, the Department requires that a company seeking to establish eligibility for an antidumping duty rate separate from the country-wide rate provide evidence of de jure and de facto absence of government control over the company's export activities. See Final Determination of Sales at Less Than Fair Value: Bicycles from the People's Republic of China, 61 FR 19026, 19027 (April 30, 1996). Accordingly, we will issue a questionnaire to QHD Sanhai, including a separate rates section. The review will proceed if the responses provide sufficient indication that QHD Sanhai is not subject to either de jure or de facto government control with respect to its exports of honey. However, if QHD Sanhai does not demonstrate its eligibility for a separate rate, then the company will be deemed not separate from other companies that exported during the POI and the new shipper review will be rescinded as to the company.

Interested parties that require access to proprietary information in this new shipper review should submit applications for disclosure under administrative protective orders in accordance with 19 CFR 351.305 and 351.306.

This initiation and notice are in accordance with section 751(a)(2)(B) of the Act, 19 CFR 351.214(d), and 19 CFR 351.221(c)(1)(i).

Dated: January 29, 2007.
Stephen J. Claeys,
Deputy Assistant Secretary for Import Administration.

[FR Doc. E7-1809 Filed 2-2-07; 8:45 am]

BILLING CODE 3510-DS-S